Title 3—

The President

Executive Order 13361 of November 16, 2004

Assignment of Functions Under the United States Leadership Against HIV/AIDS, Tuberculosis, and Malaria Act of 2003

By the authority vested in me as President by the Constitution and the laws of the United States of America, including section 301 of title 3, United States Code, it is hereby ordered as follows:

Section 1. Executive Order 12163 of September 29, 1979, as amended, is further amended as follows:

(a) in subsection 1-100(a), by striking the period at the end of paragraph (15), by inserting a semicolon at the end of paragraph (15), and by adding at the end thereof the following new paragraph:

“(16) the United States Leadership Against HIV/AIDS, Tuberculosis, and Malaria Act of 2003 (Public Law 108-25)(the “HIV/AIDS Act”), as amended, and amendments made by the HIV/AIDS Act, which the Secretary shall perform, in the case of section 304, after consultation with the Secretary of Health and Human Services.”;

(b) in section 1-701, by inserting, after subsection (g), the following new subsections:

“(h) Those functions conferred by section 1(f)(1) and section 1(f)(2)(B)(ii)(VII) of the State Department Basic Authorities Act of 1956, as amended (22 U.S.C. 2651a).

“(i) Those functions conferred by section 202(d)(4)(C)(i) and (ii) of the HIV/AIDS Act, as amended.”;

(c) by adding at the end thereof the following new section:

“1-906. Implementation. In carrying out this order, officers of the United States shall ensure that all actions taken by them are consistent with the President's constitutional authority to: (a) conduct the foreign affairs of the United States; (b) withhold information the disclosure of which could impair the foreign relations, the national security, the deliberative processes of the Executive, or the performance of the Executive's constitutional duties; (c) recommend for congressional consideration such measures as the President may judge necessary and expedient; and (d) supervise the unitary executive branch.”.

Sec. 2. Nothing in this order shall be construed to impair or otherwise affect the functions of the Director of the Office of Management and Budget relating to budget, administrative, or legislative proposals.

Sec. 3. This order is intended only to improve the internal management of the executive branch and is not intended to, and does not, create any right or benefit, substantive or procedural, enforceable at law or in equity by a party against the United States, its departments, agencies, entities, officers, employees or agents, or any other person.

B

THE WHITE HOUSE,

November 16, 2004.

[FR Doc. 04-25866

Filed 10-18-04; 8:45 am]

Billing code 3195-01-P